DEPARTMENT OF COMMERCE

International Trade Administration

[A-485-803]

Certain Cut-to-Length Carbon Steel Plate from Romania: Initiation and Preliminary Results of Changed Circumstances Antidumping Duty Administrative Review

AGENCY: Import Administration, International Trade Administration, Department of Commerce.

SUMMARY: In response to a letter from S.C. Ispat Sidex S.A. notifying the Department of Commerce (“the Department”) that its corporate name has changed to Mittal Steel Galati S.A., the Department is initiating a changed circumstances administrative review of the antidumping duty order on certain cut-to-length carbon steel plate from Romania (see Notice of Antidumping Duty Order: Certain Cut-to-Length Carbon Steel Plate from Romania, 58 FR 44167 (August 19, 1993) (“Order”). We have preliminarily concluded that Mittal Steel Galati S.A. is the successor-in-interest to S.C. Ispat Sidex S.A. (“Sidex”) and, as a result, should be accorded the same treatment previously accorded to Sidex in regards to the antidumping order on cut-to-length carbon steel plate from Romania. Interested parties are invited to comment on these preliminary results.

EFFECTIVE DATE: May 3, 2005.

FOR FURTHER INFORMATION CONTACT: John Drury or Patrick Edwards, AD/CVD Operations, Office 7, Import Administration, International Trade Administration, U.S. Department of Commerce, 14th Street and Constitution Avenue, NW, Washington, DC 20230; telephone (202) 482-0195 and (202) 482-8029, respectively.

SUPPLEMENTARY INFORMATION:

Background:

On August 19, 1993, the Department published in the Federal Register an antidumping duty order on certain cut-to-length carbon steel plate (“steel plate”) from Romania. See Order. Since publication, there have been eleven review periods, and three fully completed administrative reviews of this order. Sidex was a participant in all three reviews. In a letter dated March 14, 2005, Sidex advised the Department that on February 7, 2005, it changed its corporate name to Mittal Steel Galati, S.A. (“Mittal Steel”) and that Mittal Steel is the successor-in-interest to Sidex. As such, Sidex requested that the Department initiate a changed circumstances review to confirm that Mittal Steel is the successor-in-interest to Sidex for purposes of determining antidumping duty liabilities. Sidex also requested that the Department conduct a changed circumstances review on an expedited basis, pursuant to 19 CFR 351.221(c)(3)(ii) of the Department's regulations. Petitioners provided no comments.

Scope of the Order

For purposes of the order, the products covered include hot-rolled carbon steel universal mill plates. For a complete description of the scope of the order, see Certain Cut-to-Length Carbon Steel Plate from Romania: Notice of Final Results and Final Partial Rescission of Antidumping Duty Administrative Review, 70 FR 12651 (March 15, 2005).

Initiation of Changed Circumstances Review

Pursuant to section 751(b) of the Tariff Act of 1930, as amended (“the Act”), and 19 CFR 351.216, the Department will conduct a changed circumstances review upon receipt of information concerning, or a request from an interested party for a review of, an antidumping duty finding or order which shows changed circumstances sufficient to warrant a review of the order. The information submitted by Mittal Steel claiming that it is the successor-in-interest to Sidex demonstrates changed circumstances sufficient to warrant a review. See 19 CFR 351.216(d).

In accordance with the above-referenced regulations, the Department is initiating a changed circumstances review to determine whether Mittal Steel is the successor-in-interest to Sidex. In determining whether one company is the successor to another for purposes of applying the antidumping duty law, the Department examines a number of factors including, but not limited to, changes in (1) management; (2) production facilities; (3) supplier relationships; and (4) customer base. See, e.g., Industrial Phosphoric Acid From Israel: Final Results of Antidumping Duty Changed Circumstances Review, 59 FR 6944 (February 14, 1994). While no one or several of these factors will necessarily provide a dispositive indication of succession, the Department will generally consider one company to be a successor to another company if its resulting operation is similar to that of its predecessor. See Brass Sheet and Strip from Canada; Notice of Final Results of Antidumping Duty Administrative Review, 57 FR 20460 (May 13, 1992), and the attached Decision Memorandum at Comment 1.¹ Thus, if the evidence demonstrates that, with respect to the production and sale of the subject merchandise, the new company operates as the same business entity as the prior company, the Department will assign the new company the cash deposit rate of its predecessor.

¹ “[G]enerally, in the case of an asset acquisition, the Department will consider the acquiring company to be a successor to the company covered by the antidumping duty order, and thus subject to its duty deposit rate, if the resulting operation is essentially similar to that existing before the acquisition.” 57 FR 20461.

On March 14, 2005, Mittal Steel submitted information demonstrating that it is the successor to Sidex. Specifically, Mittal Steel provided the minutes to its January 10, 2005, “Extraordinary General Meeting of Shareholders” at which the name change was approved. In addition, Mittal Steel provided a copy of the new company registration certificate filed with the Trade Register Office of the Galati Tribunal on February 7, 2005, the decision of Galati Tribunal to allow the name change (notarized by a delegated, tribunal judge) and the certificate issued by the National Office of the Trade Registry, Romanian Ministry of Justice, which established that Sidex would adopt the Mittal Steel name and logo. See Request for Change Circumstances Review, dated March 14, 2005, at Exhibit 1.

We also obtained information in the context of the 2002-2003 review demonstrating that no major changes occurred with respect to Mittal Steel's management, plant facilities, customer base, or suppliers. See Antidumping Duty Questionnaire Responses for Sections A, B and C, submitted in the on-going 2003-2004 Antidumping Duty Administrative Review of Certain Cut-to-Length Carbon Steel Plate from Romania, (A-485-803), dated November 5, 2005, and November 11, 2005, respectively. This information is currently on the record of this review and is on file in the Central Records Unit of the main Department of Commerce Building, Room B-099. We also noted that the headquarters remained the same and that Mittal Steel's suppliers and customers were consistent with the suppliers and customers it had in the previous review.²

² See Certain Cut-to-Length Carbon Steel Plate from Romania: Notice of Final Results and Final Partial Rescission of Antidumping Duty Administrative Review, 70 FR 12651 (March 15, 2005). This information is currently on the record of this review and is on file in the Central Records Unit of the main Department of Commerce Building, Room B-099.

Mittal Steel provided excerpts from the 15th edition of Iron and Steel Works of the World, published in 2004, which details Sidex's production facilities, and also included a print-out from the Mittal Steel website (dated February 23, 2005), indicating that the production facilities have not changed location, nor the equipment used for the production of merchandise following the name change from Sidex to Mittal Steel. Mittal Steel states in its request for initiation that it is still part of the same corporate group to which Sidex belonged. As such, the affiliated parties of Sidex are the affiliated parties of Mittal Steel, which continues the same relationship with affiliated suppliers that Sidex had used. Similarly, the relationships with unaffiliated suppliers have not been altered as a consequence of the name change. The company provided reports identifying Mittal Steel's suppliers of raw materials for the production of subject merchandise from September to December 2004 (i.e., before the name change), and from January to February 28, 2005, and we noted no changes or alterations. See id at Exhibit 9. Finally, Mittal Steel attached a copy of a February 15, 2005, customer contract, where the company's name is amended in the contract, transferring legal rights and obligations of Sidex to Mittal Steel, and is signed by the customer. See id at Exhibit 10.

When it concludes that expedited action is warranted, the Department may publish the notice of initiation and preliminary results for a changed circumstances review concurrently. See 19 CFR 351.221(c)(3)(ii). See also Canned Pineapple Fruit from Thailand; Initiation and Preliminary Results of Antidumping Duty Changed Circumstances Review, 69 FR 30878 (June 1, 2004). Based on the information on the record, we have determined that expedition of this changed circumstances review is warranted. In this case, we preliminarily find that Mittal Steel is the successor-in-interest to Sidex and, as such, is entitled to Sidex's cash deposit rate with respect to entries of subject merchandise.³

³ See, e.g., Circular Welded Non-Alloy Steel Pipe From Korea; Final Results of Antidumping Duty Changed Circumstances Review, 63 FR 20572 (April 27, 1998) where the Department found successorship where the company only changed its name and did not change its operations.

Should our final results remain the same as these preliminary results, we will instruct U.S. Customs and Border Protection (“CBP”) to assign Mittal Steel the antidumping duty cash deposit rate applicable to Sidex.

Public Comment

Any interested party may request a hearing within 14 days of publication of this notice. See 19 CFR 351.310(c). Any hearing, if requested, will be held 28 days after the date of publication of this notice, or the first working day thereafter. Interested parties may submit case briefs and/or written comments not later than 14 days after the date of publication of this notice. Rebuttal briefs and rebuttals to written comments, which must be limited to issues raised in such briefs or comments, may be filed not later than 21 days after the date of publication of this notice. Parties who submit case briefs or rebuttal briefs in this proceeding are requested to submit with each argument (1) a statement of the issue and (2) a brief summary of the argument with an electronic version included. Consistent with section 351.216(e) of the Department's regulations, we will issue the final results of this changed circumstances review no later than 270 days after the date on which this review was initiated, or within 45 days if all parties agree to our preliminary finding.

We are issuing and publishing this finding and notice in accordance with sections 751(b)(1) and 777(i)(1) of the Act and sections 351.216 and 351.221(c)(3) of the Department's regulations.

Dated: April 26, 2005.
Barbara E. Tillman,
Acting Assistant Secretary for Import Administration.

[FR Doc. E5-2146 Filed 5-2-05; 8:45 am]

(BILLING CODE: 3510-DS-S)